ENVIRONMENTAL PROTECTION AGENCY

[EPA-HQ-OAR-2023-0194; FRL-11557-01-OAR]

EPA Determinations of Compliance and Applicability Under CAA 111, 112, and 129 Dashboard: EPA Formal Responses to Inquiries Concerning Compliance With the Clean Air Act Stationary Source Program (Since May 2019)

AGENCY: Environmental Protection Agency (EPA).

ACTION: Notice of availability.

SUMMARY: This notice announces the availability of applicability determinations, alternative monitoring decisions, and regulatory interpretations made by the Environmental Protection Agency (EPA) with regard to the New Source Performance Standards (NSPS); the National Emission Standards for Hazardous Air Pollutants (NESHAP); the Emission Guidelines and Federal Plan Requirements for existing sources; and/or the Stratospheric Ozone Protection Program.

FOR FURTHER INFORMATION CONTACT: An electronic copy of each complete document posted on the Clean Air Act 111, 112, and 129 Dashboard, which contains determinations signed after May 2019, is available on the internet through the Resources and Guidance Documents for Compliance Assistance page of the Clean Air Act Compliance Monitoring website under “Air” at: https://www.epa.gov/complying-air-emissions-standards-stationary-sources/epa-determinations-compliance-and. All previously issued responses are posted on the Applicability Determination Index (ADI) data system available on the internet through the Resources and Guidance Documents for Compliance Assistance page of the Clean Air Act Compliance Monitoring website under “Air” at: https://www.epa.gov/compliance/resources-and-guidance-documents-compliance-assistance.

The letters and memoranda on the Clean Air Act 111, 112, and 129 Dashboard may be located by facility name, affected subpart, or by response date and is searchable by string word searches. For questions about the Clean Air Act 111, 112, and 129 Dashboard or this notice, contact Diana Felix, Air Quality Policy Division, Operating Permits Group; telephone number: (919) 541-7627; email address: felix.diana@epa.gov.

SUPPLEMENTARY INFORMATION:

General Information

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in part 60 also apply to Federal and EPA-approved state plans for existing sources in 40 CFR part 62. See 40 CFR 62.02(b)(2). The EPA's written responses to source or facility-specific inquiries on provisions in parts 60, 61 and 62 are commonly referred to as applicability determinations. Although the NESHAP part 63 regulations [which include Maximum Achievable Control Technology (MACT) standards and/or Generally Available Control Technology (GACT) standards] contain no specific regulatory provision providing that sources may request applicability determinations, the EPA also responds to written inquiries regarding applicability for the part 63 regulations. In addition, the General Provisions in parts 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA previously compiled EPA-issued NSPS and NESHAP applicability determinations, alternative monitoring decisions, and regulatory interpretations, and posted them to the ADI. As of October 2, 2023, the EPA determinations of compliance and applicability under Clean Air Act 111, 112, and 129 will be posted to the Clean Air Act 111, 112, and 129 Dashboard. The Clean Air Act 111, 112, and 129 Dashboard is a data system, accessed via the internet, containing all determinations signed after May 2019.

This notice comprises a list of 173 such documents added to the Clean Air Act 111, 112, and 129 Dashboard on October 2, 2023. This notice lists the title of each letter and memorandum. Complete copies of these documents may be obtained from the Clean Air Act 111, 112 and 129 Dashboard on the internet through the Resources and Guidance Documents for Compliance Assistance page of the Clean Air Act Compliance Monitoring website under “Air” at: https://www.epa.gov/compliance/resources-and-guidance-documents-compliance-assistance.

Applicability Determinations, Alternative Monitoring Plans and Regulatory Interpretations Uploaded to Clean Air Act 111, 112, and 129 Dashboard on October 2, 2023
Facility name | Title | Affected subpart | Date of response
East Carolina Regional Solid Waste Landfill | Other Request—Well Decommissioning | Part 62, Subpart OOO | 2023-09-12
Eaton Corporation—Auburn Facility | Applicability Determination for Stationary Combustion Engines | Part 63, Subpart ZZZZ; Part 60, Subpart IIII | 2023-09-07
ANR Pipeline Company—LaGrange Compressor Station | Alternative Monitoring for Stationary Gas Turbines | Part 63, Subpart YYYY | 2023-08-25
ANR Pipeline Company—Sulpher Springs Compressor Station | Alternative Monitoring for Stationary Gas Turbines | Part 63, Subpart YYYY | 2023-08-25
International Paper (IP)—Columbus Mill | Alternative Monitoring for Pulp and Paper Production | Part 63, Subpart S | 2023-08-10
Valero Renewable Fuels | Applicability Determination for SOCMI Distillation Operations | Part 60, Subpart NNN | 2023-08-07
Diversified Vapor Technologies | Alternative Monitoring for Petroleum Refineries | Part 60, Subpart J; Part 60, Subpart Ja: | 2023-07-27
Xcel Energy—High Bridge | Alternative Monitoring for Stationary Gas Turbines | Part 63, Subpart YYYY | 2023-07-27
Tampa Electric Company—Big Bend Station | Other Request—Approval of a continuous monitoring system (CMS) plan petition | Part 63, Subpart YYYY | 2023-07-25
DVT/Multiple R4 Refineries | Alternative Monitoring for Petroleum Refineries | Part 60, Subpart J; Part 60, Subpart Ja | 2023-07-25
Mosaic Fertilizer New Whales Facility | Alternative Monitoring for Phosphate Fertilizer Production Plants | Part 63, Subpart BB | 2023-07-21
Maple Hill Landfill | Alternative Test Method for MSWLF | Part 62, Subpart OOO | 2023-07-14
Owl's Head Alloys, Inc | Alternative Test Method for Secondary Aluminum Production | Part 63, Subpart RRR | 2023-07-11
Alyeska TAPS Pump Station #1 | Performance Test Extension for Stationary Combustion Turbines | Part 60, Subpart KKKK | 2023-07-10
Carmeuse Americas—Longview | Alternative Monitoring for Lime Manufacturing Plant | Part 63, Subpart AAAAA | 2023-06-21
University of Michigan—Central Power Plant | Other Request—Request for Operating Limits/Monitoring Petition | Part 63, Subpart YYYY | 2023-06-15
Entergy Services LLC | Other Request—Revision to your approved continuous monitoring system (CMS) plan | Part 63, Subpart YYYY | 2023-06-12
Dominion Energy | Performance Test Waiver for Coil and Oil-Fired Electric Generating Units | Part 63, Subpart UUUUU | 2023-06-12
Advansix Hopewell Virginia | Alternative Monitoring for Miscellaneous Organic Chemical Manufacturing | Part 63, Subpart FFFF | 2023-06-07
Materion Brush Inc | Applicability Determination for Stationary Reciprocating Combustion Engines | Part 63, Subpart ZZZZ | 2023-05-31
XCEL Energy—Riverside Generating Plant | Alternative Test Method for Stationary Gas Turbines | Part 63, Subpart YYYY | 2023-05-23
Texas Eastern Transmission—Somerset | Applicability Determination for Stationary Gas Turbines | Part 63, Subpart YYYY | 2023-05-23
XCEL Energy—High Bridge Combined Cycle | Alternative Monitoring for Stationary Gas Turbines | Part 63, Subpart YYYY | 2023-05-22
Safe Dispose, LLC (SD-40) | Applicability Determination for HMIWI | Part 60, Subpart Ec | 2023-05-08
Uwharrie Environmental Landfill | Alternative Monitoring for MSWL | Part 62, Subpart OOO | 2023-04-24
Buchanan Marine, LP | Applicability Determination for Nine Metal Fabrication and Finishing Source Categories | Part 63, Subpart XXXXXX | 2023-04-10
City of High Point (Eastside Waste Water Treatment Plant) Revised AMP Resubmittal | Alternative Monitoring Procedure for Wastewater Treatment Facility | Part 60, Subpart MMMM | 2023-03-23
East Carolina Regional Landfill | Other Request—Well Decommissioning | Part 62, Subpart OOO; Part 63, Subpart AAAA | 2023-03-23
Hanes Mill Road Landfill | Other Request—Well Decommissioning | Part 62, Subpart OOO; Part 63, Subpart AAAA | 2023-03-23
Safe Dispose, LLC (SD-9 & SD-21) | Applicability Determination for Hospital/Medical/Infectious Waste Incinerators | Part 60, Subpart Ec | 2023-03-23
Kronospan | Other Request—Compliance Option for Plywood and Composite Wood Products | Part 63, Subpart DDDD | 2023-03-23
Duke Energy Florida, LLC, Citrus Combined Cycle Station | Other Request—Approval of CMS Plan | Part 63, Subpart YYYY | 2023-03-17
Florida Power and Light | Other Request—Approval of CMS Plan | Part 63, Subpart YYYY | 2023-03-17
Johns Hopkins All Children's Hospital | Regulatory Interpretation for Stationary Reciprocating Internal Combustion Engines | Part 63, Subpart ZZZZ | 2023-03-17
CITGO Corpus Christi East Refinery | Alternative Monitoring for Petroleum Refineries | Part 60, Subpart Ja | 2023-03-14
TC Energy (ANR Brownsville Compressor Station, TN) | Other Request—Approval of CMS Plan | Part 63, Subpart YYYY | 2023-03-09
South Wake Landfill | Other Request—Well Decommissioning | Part 62, Subpart OOO; Part 63, Subpart AAAA | 2023-03-03
Petro Nova Parish Holdings-Capture Plant | Performance Test Extension for Stationary Gas Turbines | Part 63, Subpart A; Part 63, Subpart YYYY | 2023-02-16
Timber Ridge Landfill, Richwoods, MO | Alternative Monitoring for MSWL | Part 62, Subpart OOO | 2023-02-08
Capital Region Airport Authority | Applicability Determination for Other Solid Waste Incineration Units | Part 60, Subpart EEEE | 2023-01-27
Safe Dispose, LLC (SD-27) | Applicability Determination for Hospital/Medical/Infectious Waste Incinerators | Part 60, Subpart Ec | 2023-01-19
Transcontinental Gas Pipe Line Company, LLC (Transco), Compressor Station 85 | Other Request—Approval of CMS Plan | Part 63, Subpart YYYY | 2023-01-18
Valero Refining—St Charles Refinery | Alternative Monitoring for Petroleum Refineries | Part 60, Subpart Ja | 2023-01-13
Transcontinental Gas Pipe Line Company, LLC (Transco) Station 110 | Other Request—Approval of CMS Plan | Part 63, Subpart YYYY | 2023-01-13
Nikaitchuq Development Site | Performance Test Waiver for Stationary Combustion Turbine | Part 60, Subpart KKKK | 2023-01-05
International Paper ORANGE MILL PLANT | Alternative Monitoring for Pulp and Paper Production | Part 63, Subpart S | 2022-12-19
Consumers Energy Company—Muskegon River Compressor Station | Performance Test Extension for Stationary Gas Turbine | Part 63, Subpart YYYY | 2022-12-06
Misc Metal Parts and Products Surface Coating Facilities | Regulatory Interpretation for NESAHP MMMM | Part 63, Subpart MMMM | 2022-11-30
ExxonMobil Beaumont Refinery-Flare Vent Gas Composition Monitoring AMP | Alternative Monitoring for Petroleum Refineries | Part 63, Subpart CC | 2022-11-09
Hanes Mill Road Landfill | Other Request—Well Decommissioning | Part 62, Subpart OOO; Part 60, Subpart AAAA | 2022-10-25
East Carolina Regional Landfill | Other Request—Well Decommissioning | Part 62, Subpart OOO | 2022-10-25
Tesla Salt Lake City | Applicability Determination for Miscellaneous Coating Manufacturing | Part 63, Subpart HHHHHH | 2022-10-14
Pratt & Whitney 1 Aircraft Road Middletown, CT 06457 | Other Request—Petition for Operating Limitations | Part 63, Subpart YYYY | 2022-09-21
Marathon Petroleum Company Garyville Refinery | Alternative Monitoring Plan for Petroleum Refinery | Part 60, Subpart Ja | 2022-09-07
East Carolina Regional Solid Waste Landfill | Alternative Monitoring for MSWL | Part 62, Subpart OOO | 2022-09-06
Giant Cement | Alternative Monitoring for Hazardous Waste Combustor | Part 63, Subpart EEE | 2022-08-30
Artesia Renewable Diesel Company LLC | Performance Test Waiver for VOC Emissions from SOCMI Distillation Operations | Part 60, Subpart NNN; Part 60, Subpart RRR | 2022-08-30
Choctaw County Generating Plant | Other Request—Approval of CMS Plan | Part 63, Subpart YYYY | 2022-08-30
Kansas Department of Health and Environment | Regulatory Interpretation for Grain Elevators | Part 60, Subpart DD | 2022-08-17
Packaging Corporation of America Filer City Mill | Performance Test Waiver for Mercury | Part 61, Subpart E | 2022-08-01
East Carolina Regional Solid Waste Landfill | Other Request—Well Decommissioning | Part 62, Subpart OOO; Part 63, Subpart AAAA | 2022-07-26
Georgia Pacific Wood Products | Other Request—Approval of CMS Plan | Part 63, Subpart YYYY | 2022-07-26
City of High Point (Eastside Waste Water Treatment Plant) | Alternative Monitoring Plan for Wastewater Treatment Plant | Part 60, Subpart MMMM | 2022-07-22
City of Greensboro (T.Z. Osborne Water Reclamation Facility) Revised AMP Submittal | Alternative Monitoring Procedure for Sewage Sludge Incineration Unit | Part 60, Subpart MMMM | 2022-07-22
Safe Dispose, LLC | Applicability Determination for Hospital/Medical/Infectious Waste Incinerators | Part 60, Subpart Ec | 2022-07-14
American Environmental Inc | Alternative Monitoring for Petroleum Refineries | Part 60, Subpart J; Part 60, Subpart Ja | 2022-06-28
EGGER | Regulatory Interpretation for Plywood and Composite Wood Products | Part 63 Subpart DDDD | 2022-06-15
Spectro Alloys Performance Test Extension Furnace 1 Performance | Performance Test Extension for Secondary Aluminum Production | Part 61, Subpart RRR | 2022-06-07
Taiga Ventures | Applicability Determination for Commercial and Industrial Solid Waste Incineration Units | Part 60, Subpart CCCC | 2022-05-26
Southern Earth Sciences | Alternative Monitoring for Petroleum Refineries | Part 60, Subpart J | 2022-05-23
Lynnwood Sewage Sludge Incinerator | Performance Test Extension for Existing Sewage Sludge Incineration Units | Part 62, Subpart LLL | 2022-05-12
US Army Garrison Command, Ft. Knox | Regulatory Interpretation for Stationary Reciprocating Internal Combustion Engines | Part 63, Subpart ZZZZ | 2022-04-27
St. Lucie County Landfill | Alternative Monitoring for MSW Landfill | Part 62, Subpart OOO | 2022-04-20
Tampa Electric Big Bend Station | Other Request—Testing Minimum Time Notification Waiver | Part 63, Subpart YYYY | 2022-04-14
Superior Refinery | Alternative Monitoring for Petroleum Refineries | Part 60, Subpart Ja | 2022-04-11
Parkchester South Condominium | Applicability Determination for Crude Oil and Natural Gas Facilities | Part 60, Subpart Db | 2022-03-31
EAP Ohio | Regulatory Interpretation for Crude Oil and Natural Gas Facilities | Part 60, Subpart OOOO; Part 60, Subpart OOOOa | 2022-03-29
U.S. Granules—Henrietta Facility | Applicability Determination for Secondary Aluminum Production | Part 63, Subpart RRR | 2022-03-25
City of Greensboro (T.Z. Osborne Water Reclamation Facility) | Alternative Monitoring for Existing Sewage Sludge Incineration Units | Part 60, Subpart MMMM; Part 62, Subpart LLL | 2022-03-15
Westrock, Florence Mill | Alternative Monitoring for Kraft Pulp Mills | Part 60, Subpart BB | 2022-02-16
Toray Composite Materials America, Inc | Alternative Monitoring for Asphalt Processing and Asphalt Roofing | Part 63, Subpart LLLLLL | 2022-02-03
Palmetto Landfill and Recycling Center | Regulatory Interpretation for Municipal Solid Waste Landfills | Part 62, Subpart OOO; Part 63, Subpart AAAA | 2022-02-03
North Dade Landfill | Alternative Monitoring for Municipal Solid Waste Landfills | Part 62, OOO; Part 63, Subpart AAAA | 2022-01-07
United Taconite LLC (Cleveland-Cliffs) | Alternative Monitoring for Taconite Iron Ore Processing | Part 63, Subpart RRRRR | 2021-12-28
Weld County Landfill | Performance Test Waiver for Stationary Spark Ignition Internal Combustion Engines | Part 60, Subpart JJJJ | 2021-12-17
Total Energies-Port Arthur, TX | Alternative Monitoring for Petroleum Refineries | Part 60, Subpart Ja | 2021-12-13
Oxy Vinyls Houston Operations-Pasadena Polyvinyl Chloride Plant | Alternative Monitoring for Polyvinyl Chloride and Copolymers Production | Part 63, Subpart HHHHHHH | 2021-12-06
Urschel Laboratories, Inc | Alternative Monitoring for Calciners and Dryers in Mineral Industries | Part 60, Subpart UUU | 2021-12-03
Battery Builders Inc | Performance Test Waiver for Lead Acid Batter Manufacturing Area Sources | Part 60, Subpart KK; Part 63, Subpart PPPPPP | 2021-11-29
Bituminous Resources, Inc., dba Hopkins County Regional Landfill | Regulatory Interpretation for MSW Landfills | Part 62, Subpart OOO | 2021-11-18
Triangle Rock (A Subsidiary of Vulcan Materials Company) | Applicability Determination for Nonmetallic Mineral Processing Plants | Part 60, Subpart OOO | 2021-11-09
Veolia WWTP Biosolids Warren Michigan Project | Applicability Determination for New Sewage Sludge Incineration Units | Part 60, Subpart LLLL | 2021-10-28
Nucor Steel Gallatin | Alternative Monitoring for Steel Pickling HCl Process Facilities and Hydrochloric Acid Regeneration Plants | Part 63, Subpart CCC | 2021-10-21
Holcomb Station | Performance Test Waiver for Coal- and Oil-Fired Electric Utility Steam Generating Units | Part 63, Subpart UUUUU | 2021-10-21
Mosaic Fertilizer—Faustina Plant | Alternative Monitoring for Phosphate Fertilizers Production Plants | Part 63, Subpart BB | 2021-10-14
U.S. Air Force Long Range Radar Station—Oliktok, Alaska | Applicability Determination for Other Solid Waste Incineration Units | Part 60, Subpart EEEE | 2021-09-30
Vapor Point | Alternative Monitoring for Petroleum Refineries | Part 60, Subpart J; Part 60 Subpart Ja | 2021-09-30
International Paper—Columbus, MS Mill | Alternative Monitoring for Pulp and Paper Industry | Part 63, Subpart S | 2021-09-29
Ecoremedy | Applicability Determination for New Sewage Sludge Incineration Units | Part 60, Subpart LLLL | 2021-09-09
Clean Harbors Industrial Services | Alternative Monitoring for Petroleum Refineries | Part 60, Subpart J; Part 60 Subpart Ja | 2021-09-07
Sterigenics | Alternative Monitoring for Ethylene Oxide Emissions Standards for Sterilization Facilities | Part 63, Subpart O | 2021-08-26
Eastman Chemical Company, Kingsport, Tennessee | Performance Test Waiver for Commercial and Industrial Solid Waste Incineration Units | Part 60, Subpart DDDD | 2021-08-19
BASF Freeport, TX | Alternative Monitoring for SOCMI Air Oxidation Units and Distillation Operations | Part 60, Subpart III, NNN | 2021-08-17
Santee Cooper, Horray Generating Station | Applicability Determination for Stationary Compression Ignition Internal Combustion Engines | Part 60, Subpart IIII | 2021-07-30
Vapor Point LLC | Alternative Monitoring for Petroleum Refineries | Part 60, Subpart J; Part 60 Subpart Ja | 2021-07-28
Morehead, Kentucky Landfill | Regulatory Interpretation for Municipal Solid Waste Landfills | Part 60, Subpart WWW | 2021-07-20
Accoya USA, LLC | Alternative Monitoring for Equipment Leaks of VOC in the Synthetic Organic Chemicals Manufacturing Industry | Part 60, Subpart VVa | 2021-07-09
Vapor Point | Alternative Monitoring for Petroleum Refineries | Part 60, Subpart J; Part 60 Subpart Ja | 2021-07-09
Marathon St. Paul Park | Alternative Monitoring for Petroleum Refineries | Part 60, Subpart Ja | 2021-06-29
Conoco Phillips Alaska Exploration Wells | Alternative Reporting Schedule for Crude Oil and Natural Gas Facilities | Part 60, Subpart OOOOa | 2021-06-28
International Paper- New Bern Mill | Alternative Monitoring for Pulp and Paper Industry | Part 63, Subpart S | 2021-06-25
Domtar AW LLC-Ashdown, AR | Alternative Reporting Schedule for Pulp and Paper Industry | Part 63, Subpart S | 2021-06-25
Crash Champions, multiple facilities in Colorado | Applicability Determination for Miscellaneous Coating Manufacturing | Part 63, Subpart HHHHHH | 2021-06-23
BP Cherry Point | Regulatory Interpretation of Equipment Leaks of VOC in the Synthetic Organic Chemicals Manufacturing Industry | Part 60, Subpart GGG/GGGa, Part 60, Subpart VV/Vva; Part 63, Subpart CC | 2021-06-07
EPA NESHAP Residential Building Exemption Clarification Request | Applicability Determination for Asbestos | Part 61, Subpart M | 2021-05-26
Vapor Point-La Porte, TX | Alternative Monitoring for Petroleum Refineries | Part 60, Subpart J; Part 60 Subpart Ja | 2021-05-25
Covanta Haverhill | Other Request—Alternative Sampling Method | Part 60, Subpart WWW | 2021-05-11
Complete Auto Body and Paint | Applicability Determination for Miscellaneous Coating Manufacturing | Part 63, Subpart HHHHHH | 2021-05-05
Michael's Auto Body and Glass | Applicability Determination for Miscellaneous Coating Manufacturing | Part 63, Subpart HHHHHH | 2021-05-05
CEMEX Construction Materials Atlantic, Knoxville Cement Plant | Applicability Determination for Coal Preparation Plants | Part 60, Subpart Y; Part 63 Subpart LLL | 2021-04-30
Florida Department of Environmental Protection | Regulatory Interpretation for Asbestos | Part 61, Subpart M | 2021-04-28
Denver Auto Body | Applicability Determination for Miscellaneous Coating Manufacturing | Part 63, Subpart HHHHHH | 2021-04-15
USA DeBusk | Alternative Monitoring for Petroleum Refineries | Part 60, Subpart Ja | 2021-04-13
Lhoist North America—Montevallo Plant | Technical Compliance Extension for Lime Manufacturing Plants | Part 63, Subpart AAAAA | 2021-04-09
Accurate Auto Body | Applicability Determination for Miscellaneous Coating Manufacturing | Part 63, Subpart HHHHHH | 2021-04-08
Boulder Bump Shop | Applicability Determination for Miscellaneous Coating Manufacturing | Part 63, Subpart HHHHHH | 2021-04-08
Motiva Enterprises-Port Arthur, TX Refinery | Other Request—Revised Alternative Monitoring Plan | Part 63, Subpart UUU | 2021-04-05
Chevron Salt Lake City Refinery | Performance Test Waiver for Petroleum Refineries | Part 60, Subpart Ja | 2021-03-22
Foley Cellulose, LLC | Alternative Monitoring for Industrial, Commercial, and Institutional Boilers and Process Heaters | Part 60, Subpart Db; Part 63, Subpart DDDDD | 2021-03-19
Arapahoe Collision and Mechanical | Applicability Determination for Miscellaneous Coating Manufacturing | Part 63, Subpart HHHHHH | 2021-03-16
Colorado and Fitzsimons Auto Body | Applicability Determination for Miscellaneous Coating Manufacturing | Part 63, Subpart HHHHHH | 2021-03-16
City of Selawik WTP | Applicability Determination for Other Solid Waste Incineration Units | Part 60, Subpart EEEE | 2021-03-15
BASF Freeport | Performance Test Waiver for Volatile Organic Compound (VOC) Emissions From Synthetic Organic Chemical Manufacturing Industry (SOCMI) Distillation Operations | Part 60, Subpart NNN and previously approved AMP 02/24/2005 | 2021-03-09
Metropolitan Sewerage District of Buncombe County, NC | Alternative Monitoring for Sewage Sludge Incineration Units | Part 60, Subpart MMMM | 2021-03-05
Lhoist North America of Alabama, LLC—Montevallo Plant | Alternative Test Method for Lime Manufacturing Plants | Part 63, Subpart AAAAA | 2021-03-03
Perry and Terry Autobody | Applicability Determination for Miscellaneous Coating Manufacturing | Part 63, Subpart HHHHHH | 2021-02-24
Hartford Finishing | Applicability Determination for Miscellaneous Coating Manufacturing | Part 63, Subpart HHHHHH | 2021-02-16
Citation Oil and Gas (Holland & Hart LLP) | Applicability Determination for Stationary Reciprocating Internal Combustion Engines | Part 63, Subpart ZZZZ | 2021-02-11
Palisades Nuclear Station | Applicability Determination for Gasoline Dispensing Facilities | Part 63, Subpart CCCCCC | 2021-02-02
Mainspring Energy | Regulatory Interpretation for Stationary Compression Ignition Internal Combustion Engines | Part 60, Subparts IIII and JJJJ | 2021-01-19
Shelton Services | Alternative Monitoring for Petroleum Refineries | Part 60, Subpart J; Part 60 Subpart Ja | 2021-01-19
Westvaco Facility | Applicability Determination for Lime Manufacturing Plants | Part 63, Subpart AAAAA | 2021-01-15
Synergy Solutions of Crisp County, LP | Applicability Determination for Small Municipal Waste Combustion Units | Part 60, Subpart AAAA | 2021-01-15
Mississippi Lime | Alternative Monitoring for Lime Manufacturing Plants | Part 63, Subpart AAAAA | 2021-01-11
Marathon Petroleum Garyville LA Refinery | Alternative Monitoring for Petroleum Refineries | Part 60, Subpart Ja | 2020-12-23
Flint Hills Resources Pine Bend Refinery | Alternative Test Method for Petroleum Refineries | Part 60, Subpart Ja | 2020-12-22
Porter Auto Body | Applicability Determination for Miscellaneous Coating Manufacturing | Part 63, Subpart HHHHHH | 2020-12-14
Gerber Collision and Glass | Applicability Determination for Miscellaneous Coating Manufacturing | Part 63, Subpart HHHHHH | 2020-12-14
Gingerminion DBA Colors on Parade | Applicability Determination for Miscellaneous Coating Manufacturing | Part 63, Subpart HHHHHH | 2020-12-14
Tesla | Applicability Determination for Miscellaneous Coating Manufacturing | Part 63, Subpart HHHHHH | 2020-12-14
KMTEX LLC | Alternative Monitoring for VOC Emissions from SOCMI Distillation Operations | Part 60, Subpart NNN, Part 60 Subpart RRR | 2020-12-02
Barry Industries, Attleboro, MA | Performance Test Waiver for Beryllium | Part 61, Subpart C | 2020-12-02
Sewerage & Water Board of New Orleans (SWBNO)-East Bank Sewage Treatment Plant | Performance Testing Extension Request and Force Majeure Claim | Part 62, Subpart LLL | 2020-11-20
Sewerage & Water Board of New Orleans | Performance Test Extension | Part 62, Subpart LLL | 2020-11-20
Anchorage Regional Landfill | Other Request—Alternative Remedy and Timeline | Part 60, Subpart WWW | 2020-11-10
Ascend Performance Materials Operations, LLC, Pensacola, Florida; Pensacola Adipic Acid Plant | Applicability Determination for Nitric Acid Plant | Part 60, Subpart Ga | 2020-11-06
WestRock CP, LLC—Stevenson Mill, Stevenson, Alabama | Alternative Monitoring for Industrial Stream Generating Units | Part 60, Subpart Db | 2020-10-22
Anchorage Regional Landfill | Alternative Monitoring for Municipal Solid Waste Landfills | Part 60, Subpart WWW | 2020-10-20
Flint Hills Resources Pine Bend Refinery | Alternative Monitoring for Petroleum Refineries | Part 60, Subpart Ja | 2020-10-13
Westrock Evadale Mill | Performance Test Extension for Chemical Recovery Combustion Sources at Kraft, Soda, Sulfite, and Stand-Alone Semichemical Pulp Mills | Part 63, Subpart MM | 2020-10-01
GVEA Healy | Alternative Test Method for Coal and Oil-Fired Electric Utility Steam Generating Units | Part 63, Subpart UUUUU | 2020-09-29
Providence Kodiak | Applicability Determination for Other Solid Waste Incineration Units | Part 60, Subpart EEEE | 2020-09-23
Manchester Wastewater Treatment Plant | Alternative Test Method for Sewage Sludge Incinerator | Part 62, Subpart LLL | 2020-09-14
Anchorage Regional Landfill | Other Request—Alternative Remedy and Timeline | Part 60, Subpart WWW | 2020-09-01
U.S. Air Force Oliktok Alaska Incinerator | Applicability Determination for Other Solid Waste Incineration Units | Part 60, Subpart EEEE | 2020-08-20
Trecora Chemical-Pasadena, TX | Alternative Monitoring for Synthetic Organic Chemical Manufacturing Industry (SOCMI) Distillation Operations | Part 60, Subpart NNN | 2020-08-17
AMES Copper Group, Formerly IMC Metals | Applicability Determination for Secondary Copper Smelting Area Sources | Part 63, Subpart FFFFFF | 2020-08-14
Jackson Cleaners | Applicability Determination for Perchloroethylene Dry Cleaning Facilities | Part 63, Subpart M | 2020-08-06
Twin Landfill Corporation, Milner Landfill | Applicability Determination for Municipal Solid Waste Landfills | Part 60, Subpart WWW | 2020-07-28
Wake County Solid Waste Management Division—North Wake County Landfill | Alternative Monitoring for Municipal Solid Waste Landfills | Part 60, Subpart WWW | 2020-07-23
King Systems Corporation | Applicability Determination for Surface Coating Of Miscellaneous Plastic Parts and Products | Part 63, Subpart PPPP | 2020-06-16
Vicor Corporation | Applicability Determination for Nine Metal Fabrication and Finishing Source Categories | Part 63, Subpart XXXXXX | 2020-04-16
HollyFrontier El Dorado Refining | Other Request—Alternating Monitoring Request and Site-Specific NOX Emission Limit | Part 60, Subpart Ja | 2019-05-22

Panagiotis Tsirigotis,
Director, Office of Air Quality Planning and Standards.

[FR Doc. 2023-25950 Filed 11-22-23; 8:45 am]

BILLING CODE 6560-50-P